DEPARTMENT OF EDUCATION

Extension of the Application Deadline Date; Applications for New Awards; Expanding Opportunity Through Quality Charter Schools Program (CSP)-State Charter School Facilities Incentive Grant (SFIG) Program

AGENCY: Office of Elementary and Secondary Education, Department of Education.

ACTION: Notice.

SUMMARY: On April 24, 2024, we published in the Federal Register a notice inviting applications (NIA) for the fiscal year (FY) 2024 SFIG Program, Assistance Listing Number 84.282D. The NIA established a deadline date of July 23, 2024, for the transmittal of applications. For eligible applicants located in counties in Texas that are covered by a major disaster declaration issued by the President, this notice extends the deadline date for transmittal of applications until Monday, July 29, 2024, and extends the date of intergovernmental review until September 27, 2024.

DATES:

Deadline for Transmittal of Applications: July 29, 2024.

Deadline for Intergovernmental Review: September 27, 2024.

FOR FURTHER INFORMATION CONTACT: Clifton Jones. Telephone: (202) 205-2204. Email: charter.facilities@ed.gov.

If you are deaf, hard of hearing, or have a speech disability and wish to access telecommunications relay services, please dial 7-1-1.

SUPPLEMENTARY INFORMATION: On April 24, 2024, we published the NIA in the Federal Register (89 FR 31151). Under the NIA, applications are due on July 23, 2024. We are extending the deadline for transmittal of applications for affected applicants (as defined under Eligibility) to allow these applicants more time—until July 29, 2024—to prepare and submit their applications.

Eligibility: The application deadline extension applies only to eligible applicants under the FY 2024 SFIG Program competition that are affected applicants. An eligible applicant for this competition is defined in the NIA. To qualify as an affected applicant, the applicant must have a mailing address that is located in the federally declared disaster area and must provide appropriate supporting documentation, if requested.

The applicable federally declared disaster area under this declaration is the area in which assistance to individuals or public assistance has been authorized under FEMA's disaster declaration for Texas Hurricane Beryl DR-4798-TX. See the disaster declaration available at https://www.fema.gov/disaster/4798.

Affected applicants that have already timely submitted applications under the FY 2024 SFIG Program competition may resubmit applications on or before the extended application deadline of July 29, 2024, but are not required to do so. If a new application is not submitted, the Department will use the application that was submitted by the original deadline. If a new application is submitted, the Department will consider the application that is last submitted and timely received by 11:59:59 p.m., Eastern Time, on July 29, 2024.

Any application submitted by an affected applicant under the extended deadline must contain evidence (e.g., the applicant organization mailing address) that the applicant is located in the applicable federally declared disaster area and, if requested, the applicant must provide appropriate supporting documentation.

The application period is not extended for all applicants. Applications from applicants that are not affected, as defined above, will not be accepted past the original July 23, 2024 deadline.

Note: All information in the NIA for this competition remains the same, except for the deadline for the transmittal of applications and the deadline for intergovernmental review.

Program Authority: Title IV, Part C Section 4304 of the ESEA, as amended (20 U.S.C. 7221(c)).

Accessible Format: On request to the program contact person listed under FOR FURTHER INFORMATION CONTACT, individuals with disabilities can obtain this notice, the NIA, and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Adam Schott,
Principal Deputy Assistant Secretary, Delegated the Authority to Perform the Functions and Duties of the Assistant Secretary, Office of Elementary and Secondary Education.

[FR Doc. 2024-16175 Filed 7-18-24; 4:15 pm]

BILLING CODE 4000-01-P